GENERAL SERVICES ADMINISTRATION

Public Building Service; Notice of Availability; Environmental Assessment and Finding of No Significant Impact

ACTION: Notice.

SUMMARY: The General Services Administration is publishing a Final Environmental Assessment (EA) and Finding of No Significant Impact (FONSI) for the proposed construction of a new commercial port of entry in San Luis, Arizona.

FOR FURTHER INFORMATION CONTACT: Mr. Morris Angell, Regional Environmental Quality Advisor (REQA), Capital Investment Branch, Portfolio Management Division, US General Services Administration, 450 Golden Gate Avenue, San Francisco, CA 94102, phone 415-522-3473, or email: morris.angell@gsa.gov.

SUPPLEMENTARY INFORMATION: The US Border Station at San Luis, Arizona is a full-service land port of entry (POE) where the Federal Government inspects privately-owned vehicles (POV), pedestrians, and commercial vehicles seeking to enter the United States. Immediately to the south is the Mexican City of San Luis Rio Colorado, Sonora. An average of 180 commercial vehicles, 350 bicycles, 10,000 automobiles, and 11,000 pedestrians cross the border at this station every day. Since the POE was constructed in 1984, the population of the region has grown, illegal immigration and smuggling have become epidemic, inspection technology has significantly improved, law enforcement activities have increased, and trade policies have changed dramatically. Consequently, the existing facilities are overloaded and in need of repair, upgrades, and expansion.

The General Services Administration (GSA) proposes to relocate the existing commercial port of entry, currently in downtown San Luis, Arizona to a vacant former Bureau of Reclamation (BoR) property to the east of the City. Details of the Proposed Action are described in a NEPA document entitled San Luis, Arizona Commercial Port of Entry Project Environmental Assessment (U.S. Bureau of Reclamation 2000).

The BoR used the 2000 EA to support a previous FONSI which determined that Federal lands could be transferred to the Greater Yuma Port Authority (GYPA) for a new port of entry without any significant environmental impacts. Because the BoR EA included detailed descriptions of the affected area and the proposed facilities to be constructed the GSA has adopted the BoR's 2000 EA and FONSI in support of this FONSI regarding the impacts of constructing of the commercial POE.

This action includes mitigation measures to reduce impacts identified in the BoR EA to a level that is less than significant. The GYPA's commitments to implement these mitigation measures have also been included as conditions of the transfer of 80 acres of land within the project area to the General Service Administration (GSA) for the construction of the commercial POE. The original EA and BoR FONSI were published and circulated among responsible government agencies for a period of no less than 30 days. Comments received during circulation were considered by GSA in this final decision.

Finding

Pursuant to the provision of GSA Order ADM 1095.1F, the PBS NEPA Desk Guide, and the regulations issued by the Council of Environmental Quality, (40 CFR parts 1500 to 1508), this notice advises the public of our finding, that the action described above will not significantly affect the quality of the human environment.

Basis for Finding

The environmental impacts of constructing and operating the proposed facilities were considered in the Final EA and FONSI pursuant to the National Environmental Policy Act (NEPA) and the Council on Environmental Quality (CEQ) regulations implementing NEPA. The Final EA and FONSI are available for review at the San Luis Public Library, 731 N 1st Ave., San Luis, AZ 85349. The Final EA and FONSI can also be viewed on the GSA Web site at http://www.gsa.gov/nepa.

The build alternative will result in temporary construction impacts involving the air quality (dust) and noise, a minor loss of soil and vegetation, and potential stormwater pollution runoff from the site. To mitigate potential long-term impacts, GSA will implement the measures that are discussed in the Environmental Assessment and FONSI.

The Finding of No Significant Impact will become final thirty (30) days after the publication of this notice, provided that no information leading to a contrary finding is received or comes to light during this period.

Peter Stamison,
Regional Administrator, GSA Region 9.

[FR Doc. E7-2720 Filed 2-15-07; 8:45 am]

BILLING CODE 6820-YF-S